NUCLEAR REGULATORY COMMISSION

[NRC-2011-0273]

NRC Enforcement Policy

AGENCY: Nuclear Regulatory Commission.

ACTION: Proposed enforcement policy revision; request for comment.

SUMMARY: The U.S. Nuclear Regulatory Commission (NRC) is soliciting comments from interested parties, including public interest groups, States, members of the public, and the regulated industry (i.e., reactor, fuel cycle, and materials licensees, vendors, and contractors), on proposed revisions to the NRC's Enforcement Policy (the Policy) and the effectiveness of the September 30, 2010 (75 FR 60485), revisions to the Policy. The intent of this request for comment is to assist the NRC in revising its Enforcement Policy.

DATES: Submit comments by January 5, 2012. Comments received after this date will be considered if it is practical to do so, but the NRC is able to assure consideration only for comments received on or before this date.

ADDRESSES: Please include Docket ID NRC-2011-0273 in the subject line of your comments. For additional instructions on submitting comments and instructions on accessing documents related to this action, see “Submitting Comments and Accessing Information” in the SUPPLEMENTARY INFORMATION section of this document. You may submit comments by any one of the following methods:

• Federal Rulemaking Web site: Go to http://www.regulations.gov and search for documents filed under Docket ID NRC-2011-0273. Address questions about NRC dockets to Carol Gallagher, telephone: (301) 492-3668; email: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at (301) 492-3446.

FOR FURTHER INFORMATION CONTACT: Doug Starkey, Office of Enforcement, U.S. Nuclear Regulatory Commission, Washington, DC 20555; telephone: (301) 415-3456, email: Doug.Starkey@nrc.gov.

SUPPLEMENTARY INFORMATION:

I. Submitting Comments and Accessing Information

Comments submitted in writing or in electronic form will be posted on the NRC Web site and on the Federal rulemaking Web site, http://www.regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

You can access publicly available documents related to this action using the following methods:

• NRC's Public Document Room (PDR): The public may examine and have copied, for a fee, publicly available documents at the NRC's PDR, O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-(800) 397-4209, (301) 415-4737, or by email to pdr.resource@nrc.gov. The Enforcement Policy is accessible under ADAMS Accession No. ML093480037. The proposed revisions to the Enforcement Policy discussed in this notice are available under ADAMS Accession Number ML11259A100.

• Federal Rulemaking Web Site: Public comments and supporting materials related to this proposed rule can be found at http://www.regulations.gov by searching on Docket ID NRC-2011-0273.

The NRC maintains the Enforcement Policy on its Web site at http://www.nrc.gov/about-nrc/regulatory/enforcement/current.html.

II. Background

The purpose of this document is twofold: (1) To solicit comments on the effectiveness of the September 30, 2010, revision to the Enforcement Policy; and (2) to solicit comments on specific proposed changes to the next revision to the Policy.

On December 30, 2009, in SECY-09-0190 (ADAMS Accession Number ML093200520), the staff submitted to the Commission a proposed major revision of the Enforcement Policy. In SECY-09-0190 the staff committed to provide an opportunity for public comments on the revision after it had been in effect for about 18 months. On August 27, 2010, in SRM-SECY-09-0190 (ADAMS Accession Number ML102390327), the Commission approved the revised Policy and directed the NRC staff to evaluate certain items for inclusion in the next proposed revision to the Policy. On September 30, 2010, the NRC published the revised Policy in the Federal Register. The revised Policy has been in use for approximately one year and the staff is now soliciting comments on the effectiveness of the changes reflected in the September 30, 2010, revision.

In addition to the direction given to the staff in SRM-SECY-09-0190, the staff is evaluating other Policy changes that it may present to the Commission for approval and inclusion in the next Policy revision.

The staff previously solicited comments on other SRM-SECY-09-0190 items in documents published in the Federal Register on August 9, 2011 (76 FR 48919), and September 6, 2011 (76 FR 54986). It was the NRC staff's intent that this document and the August 9, 2011, and September 6, 2011, documents would each address different proposed changes to the Enforcement Policy. However, the staff acknowledges that there may be some overlap between the subject matter of the three documents. Therefore, interested parties who provided comments on the August 9, 2011, and September 6, 2011, documents may desire to revise their previous comments if they believe those comments are affected by the proposed revisions covered by this document. Any interested party desiring to revise their previous comments should do so within the comment period stated in the DATES section of this document.

III. Procedural Requirements

Paperwork Reduction Act Statement

This policy statement contains new or amended information collection requirements subject to the Paperwork Reduction Act of 1995 (44 U.S.C. 3501 et seq.). Existing requirements were approved by the Office of Management and Budget, approval number 3150-0136.

Public Protection Notification

The NRC may not conduct or sponsor, and a person is not required to respond to, a request for information or an information collection requirement unless the requesting document displays a currently valid OMB control number.

Dated at Rockville, MD, this 29th day of November 2011.
For the Nuclear Regulatory Commission.
Roy P. Zimmerman,
Director, Office of Enforcement.

[FR Doc. 2011-31315 Filed 12-5-11; 8:45 am]

BILLING CODE 7590-01-P